DEPARTMENT OF THE TREASURY

Fiscal Service

Surety Companies Acceptable on Federal Bonds—Change In Business Address and Redomestication: American Fire and Casualty Company (NAIC #24066) and The Ohio Casualty Insurance Company (NA1C #24074)

AGENCY: Financial Management Service, Fiscal Service, Department of the Treasury.

ACTION: Notice.

SUMMARY: This is Supplement No. 4 to the Treasury Department Circular 570, 2012 Revision, published July 2, 2012, at 77 FR 39322.

FOR FURTHER INFORMATION CONTACT: Surety Bond Branch at (202) 874-6850.

SUPPLEMENTARY INFORMATION: Notice is hereby given by the Treasury that the above-named companies formally changed their “BUSINESS ADDRESS” to “62 Maple Avenue, Keene, NH 03431” effective immediately. In addition, the above-named companies have redomesticated from the state of Ohio to the state of New Hampshire effective October 1, 2012. Federal bond-approving officers should annotate their reference copies of the Treasury Circular 570 (“Circular”), 2012 Revision, to reflect these changes.

The Circular may be viewed and downloaded through the Internet at http://www.fms.treas.gov/c570.

Questions concerning this Notice may be directed to the U.S. Department of the Treasury, Financial Management Service, Financial Accounting and Services Division, Surety Bond Branch, 3700 East-West Highway, Room 6F01, Hyattsville, MD 20782.

Dated: January 14, 2013.
Kevin McIntyre,
Acting Director, Financial Accounting and Services Division, Financial Management Service.

[FR Doc. 2013-02294 Filed 2-4-13; 8:45 am]

BILLING CODE 4810-35-M